DEPARTMENT OF AGRICULTURE

Forest Service

DEPARTMENT OF THE INTERIOR

Bureau of Land Management

Request for Information (RFI) on Federal Old-growth and Mature Forests

AGENCY: Forest Service, Agriculture (USDA); Bureau of Land Management, Interior (DOI).

ACTION: Request for information.

SUMMARY: The United States Department of Agriculture (USDA), United States Forest Service (Forest Service), and the United States Department of the Interior (DOI), Bureau of Land Management (BLM), invite public comment to inform the response to Executive Order Strengthening the Nation's Forests, Communities, and Local Economies which requires USDA and DOI to define old-growth and mature forests on Federal lands; complete an inventory and make it publicly available; coordinate conservation and wildfire risk reduction activities; identify threats to mature and old-growth forests; develop policies to address threats; develop Agency-specific reforestation goals by 2030; develop climate-informed reforestation plans; and develop recommendations for community-led local and regional economic development opportunities.

DATES: A webinar will be held for interested members of the public on July 21, 2022. More information about this session (including specific time and how to attend) will be posted to the Forest Service website (https://www.fs.usda.gov/managing-land/old-growth-forests). Comments must be received in writing by August 15, 2022.

ADDRESSES: The webinar will be held on Microsoft Teams web conferencing software. The webinar will be recorded. Information about how to attend the webinar, presentation materials used during the webinar, and the webinar recording will be posted to: https://www.fs.usda.gov/managing-land/old-growth-forests. Written comments concerning this notice may be submitted electronically to: https://cara.fs2c.usda.gov/Public/CommentInput?project=NP-3239.

FOR FURTHER INFORMATION CONTACT: Jamie Barbour, Assistant Director, Ecosystem Management Coordination, (503) 708-9138, roy.barbour@usda.gov. Individuals who use telecommunication devices for the deaf and hard of hearing (TDD) may call the Federal Relay Service (FRS) at 1-800-877-8339, 24 hours a day, every day of the year, including holidays.

SUPPLEMENTARY INFORMATION: The purpose of this RFI is to inform the public and gather feedback on potential future implementation efforts associated with provisions of Executive Order (E.O.) 14072: Strengthening the Nation's Forests, Communities, and Local Economies, issued April 22, 2022. The focus of this current request for information is to inform the response to E.O. 14072 Section 2(b) specifically, which calls on the Secretaries of Agriculture and the Interior, within one year, to define, identify, and complete an inventory of old-growth and mature forests on Federal lands, accounting for regional and ecological variations, as appropriate, and making the inventory publicly available.

Background. E.O. 14072 Section 2(b) states that: “The Secretary of the Interior, with respect to public lands managed by the Bureau of Land Management, and the Secretary of Agriculture, with respect to National Forest System lands, shall, within one year of the date of this order, define, identify, and complete an inventory of old-growth and mature forests on Federal lands, accounting for regional and ecological variations, as appropriate, and shall make such inventory publicly available.”

USDA and DOI recognize definition development as a pivotal first step in meeting the subsequent identification and inventory requirements of E.O. 14072. Development of the definition, followed by identification and inventory will then be used to inform subsequent needs identified in E.O. 14072 Section 2(c) (e.g., conservation and wildfire risk reduction activities, including consideration of climate-smart stewardship of mature and old-growth forests; analysis of the threats to mature and old-growth forests on Federal lands, including from wildfires and climate change; and development of policies to institutionalize climate-smart management and conservation strategies that address threats to mature and old-growth forests on Federal land).

This effort is also directly connected to the Secretary's Memorandum 1077-004: Climate Resilience and Carbon Stewardship of America's National Forests and Grasslands (issued June 23, 2022, by the Secretary of Agriculture, https://www.usda.gov/directives/sm-1077-004). The Secretary's Memorandum 1077-004 specifically references E.O. 14072 implementation and other actions.

Defining old growth and mature forests for purposes of conducting an inventory as required under E.O. 14072 Section 2(b) does not, by itself, change any current forest management policies or practices. Developing policies to institutionalize climate-smart management and conservation strategies that address threats to mature and old-growth forests on Federal land as stated in E.O. 14072 Section 2(c) will follow completion of definition development, identification, and inventory.

Defining old-growth and mature forests has evolved with our scientific understanding of these unique ecosystems. Previous definitions include a general old-growth one included in a 1989, Forest Service Chief's letter to Regional Foresters which reads: “Old-growth forests are ecosystems distinguished by old trees and related structural attributes. Old-growth encompasses the later stages of stand development that typically differ from earlier stages in a variety of characteristics, which may include tree size, accumulations of large dead woody material, number of canopy layers, species composition, and ecosystem function.” Today, most scientists agree that old-growth forests differ widely in character with age, geographic location, climate, site productivity, and characteristic disturbance regime. Mature and old-growth forests also reflect diverse spiritual and cultural values for these special places.

Gathering and synthesizing old-growth forest information at a national scale continues to progress. Data sources exist, including the Forest Service Inventory and Analysis Program. Yet, several factors, including variations in ecological definitions of old forests in response to the diversity of forest types across the nation, climate change impacts, and the dynamic nature of forest conditions, are challenging to integrate. Considering the important values provided by old forest conditions, leveraging the Forest Service Forest Inventory and Analysis Program with existing and evolved definitions of old-growth will provide an improved picture for land managers to guide sound, science-informed, decision-making.

Input Requested. The USDA Forest Service and the Bureau of Land Management, DOI, are seeking input on the development of a definition for old-growth and mature forests on Federal land, and are specifically requesting input on the following questions:

• What criteria are needed for a universal definition framework that motivates mature and old-growth forest conservation and can be used for planning and adaptive management?

• What are the overarching old-growth and mature forest characteristics that belong in a definition framework?

• How can a definition reflect changes based on disturbance and variation in forest type/composition, climate, site productivity and geographic region?

• How can a definition be durable but also accommodate and reflect changes in climate and forest composition?

• What, if any, forest characteristics should a definition exclude?

Additional information about this effort, including a link to the recorded webinar, can be found at: https://www.fs.usda.gov/managing-land/old-growth-forests.

Christopher French,
Deputy Chief, National Forest System, Forest Service.
Tracy Stone-Manning,
Director, Bureau of Land Management.

[FR Doc. 2022-15185 Filed 7-14-22; 8:45 am]

BILLING CODE 3411-15-P